DEPARTMENT OF HEALTH AND HUMAN SERVICES

Food and Drug Administration

21 CFR Parts 510, 520, 522, 524, 528, 529, 556, and 558

[Docket No. FDA-2015-N-0002]

New Animal Drugs; Approval of New Animal Drug Applications; Changes of Sponsorship

Correction

In rule document 2016-07135 beginning on page 17604 in the issue of Wednesday, March 30, 2016, make the following correction:

§ 524.1044g [Corrected]

On page 17608, change amendatory instruction 33 to read as follows:

33. In § 524.1044g, in paragraph (b)(3), remove “000859” and in its place add “069043”.

[FR Doc. C1-2016-07135 Filed 3-31-16; 8:45 am]

BILLING CODE 1505-01-D